DEPARTMENT OF TRANSPORTATION

Federal Aviation Administration

[Docket No. FAA-2004-18925]

Airport Improvement Program Grant Assurances; Extension of Comment Period

AGENCY: Federal Aviation Administration, FAA.

ACTION: Advance notice of modification of Airport Improvement Program grant assurances and the opportunity to comment; extension of comment period.

SUMMARY: The Federal Aviation Administration (FAA) is extending to November 8, 2004, the comment period for the opportunity to comment that appeared in the Federal Register of August 24, 2004 (69 FR 52057). In the opportunity to comment, FAA requested comments on proposed modifications to the Airport Improvement Program Grant Assurances. The agency is taking this action in response to requests for an extension to allow interested persons additional time to submit comments.

DATES: Submit written and electronic comments by November 8, 2004.

ADDRESSES: Submit written comments to the, FAA, Airports Financial Assistance Division, APP-500, Attn: Mr. Kendall Ball, Room 619, 800 Independence Ave., SW., Washington, DC 20591.

FOR FURTHER INFORMATION CONTACT: Mr. Kendall Ball, Airport Improvement Program Branch, APP 520, Airports Financial Assistance Division, Room 619, FAA, 800 Independence Avenue, SW., Washington, DC 20591, Telephone (202) 267-7436, or e-mail: Kendall.Ball@faa.gov.

SUPPLEMENTARY INFORMATION:

I. Background

In the Federal Register of August 24, 2004 (69 FR 52057), FAA published a notice of modification of Airport Improvement Program (AIP) grant assurances and for additional assurances with a 30-day comment period to request comments on the modified and proposed additional AIP grant assurances. The Secretary must receive certain assurances from a sponsor (applicant) seeking financial assistance for airport planning, airport development, noise compatibility planning or noise mitigation under Title 49, U.S.C., as amended. These assurances are submitted as part of a sponsor's application for Federal assistance and are incorporated into all grant agreements. As need dictates, these assurances are modified to reflect new Federal requirements. Notice of such proposed modifications is published in the Federal Register, and an opportunity for public comment is provided.

The agency has received multiple requests for either a 45-day or 60-day extension of the comment period for the notice of modification. Each request conveyed concern that the current 30-day comment period does not allow sufficient time to develop a meaningful or thoughtful response to the notice of modification. All of the requests explained that an extension is necessary due to the impact of the grant assurances on airport costs and operating efficiency. FAA has considered the requests and is extending the comment period for the notice of modification for 45 days, until November 8, 2004. The agency believes that a 45-day extension allows adequate time for interested persons to submit comments without significantly delaying the implementation of the grant assurances.

II. Request for Comments

Interested persons may, on or before November 8, 2004, submit to the FAA, Airports Financial Assistance Division, APP-500, Attn: Mr. Kendall Ball, Room 619, 800 Independence Avenue, SW., Washington, DC 20591.

Dated: September 13, 2004.
Ben DeLeon,
Deputy Director, Office of Airport Planning and Programming.

[FR Doc. 04-21011 Filed 9-16-04; 8:45 am]

BILLING CODE 4910-13-M